DEPARTMENT OF TRANSPORTATION

Federal Aviation Administration

14 CFR Part 39

[Docket No. 2001-NM-142-AD]

RIN 2120-AA64

Airworthiness Directives; Airbus Model A330 and A340 Series Airplanes

AGENCY: Federal Aviation Administration, (DOT).

ACTION: Supplemental notice of proposed rulemaking; reopening of comment period.

SUMMARY: This document revises an earlier proposed airworthiness directive (AD), applicable to certain Airbus Model A330 and A340 series airplanes, that would have required modification of the down drive brackets of the left- and right-hand sides of the inboard flap track 1 assembly and installation of bigger bolts and washers. This new action revises the proposed AD by expanding the applicability and, for certain airplanes, adding improved torque requirements specifying the correct torque value of the nuts. The actions specified by this new proposed AD are intended to prevent failure of the bolts due to flexural loads caused by transmission jam loading, which could lead to a “flap-locked” condition, causing reduced controllability of the airplane. This action is intended to address the identified unsafe condition.

DATES: Comments must be received by January 28, 2003.

ADDRESSES: Submit comments in triplicate to the Federal Aviation Administration (FAA), Transport Airplane Directorate, ANM-114, Attention: Rules Docket No. 2001-NM-142-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-142-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-142-AD.” The postcard will be date stamped and returned to the commenter.

Availability of NPRMs

Any person may obtain a copy of this NPRM by submitting a request to the FAA, Transport Airplane Directorate, ANM-114, Attention: Rules Docket No. 2001-NM-142-AD, 1601 Lind Avenue, SW., Renton, Washington 98055-4056.

Discussion

A proposal to amend part 39 of the Federal Aviation Regulations (14 CFR part 39) to add an airworthiness directive (AD), applicable to certain Airbus Model A330 and A340 series airplanes, was published as a notice of proposed rulemaking (NPRM) in the Federal Register on October 4, 2001 (66 FR 50580). That NPRM would have required modification of the down drive brackets of the left- and right-hand sides of the inboard flap track 1 assembly and installation of bigger bolts and washers. That NPRM was prompted by a report that, for certain airplanes on which Airbus Modification 45326 has been accomplished, the strength of the connection bolts at the down drive bracket of the track 1 assembly on the inboard flap is not sufficient. Failure of the bolts due to flexural loads caused by transmission jam loading, if not corrected, could lead to a “flap-locked” condition, causing reduced controllability of the airplane.

Comments

Due consideration has been given to the comments received in response to the original NPRM.

Request to Reference A Revised Service Bulletin

One commenter requests that the original NPRM be revised to reference Airbus Service Bulletin A330-57-3067, Revision 02, dated February 2, 2002 (for Model A330 series airplanes), which increases hole tolerances, and corrects improper nut torque conversions. The commenter states that the existing tolerances in Revision 01 of the service bulletin are not obtainable when reaming the existing production fastener holes on an affected airplane.

The FAA partially agrees. Since issuance of the original NPRM, the Direction Générale de l'Aviation Civile (DGAC), which is the airworthiness authority for France, has issued French airworthiness directives 2002-368(B) (for Model A330 series airplanes), and 2002-369(B) (for Model A340 series airplanes); both dated August 7, 2002. These French airworthiness directives replace French airworthiness directives 2001-125(B) (for Model A330 series airplanes), and 2001-123(B) (for Model A340 series airplanes); both dated April 4, 2001; respectively (which were referenced in the original NPRM).

French airworthiness directive 2002-368(B) states that a conversion error with regard to applied torque values (metric units to U.S. Customary Units) specified in Airbus Service Bulletin A330-57-3067, dated October 12, 2000; and Revision 01, dated April 10, 2001; has been identified. This error might lead the operators using U.S. Customary Units to apply a torque value being less than those required, which could lead to a loose nut. Revision 02 of the service bulletin, dated February 2, 2002, takes into account the right torque values, but does not mention additional work that is necessary. The applicability of this French airworthiness directive has also been revised to include additional airplanes on which these improper procedures may have been done.

French airworthiness directive 2002-369(B) states that an identical conversion error with regard to applied torque values has also been identified in Airbus Service Bulletin A340-57-4075, dated October 12, 2000; and Revision 01, dated April 10, 2001. The applicability of that French airworthiness directive has also been revised to include additional airplanes on which these improper procedures may have been done.

Airbus has issued Service Bulletin A330-57-3067, Revision 03, dated August 7, 2002 (for Model A330 series airplanes); and Service Bulletin A340-57-4075, Revision 02, dated August 7, 2002 (for Model A340 series airplanes). These service bulletins describe procedures for, among other things, modifying the down drive brackets of the left- and right-hand inboard flap track 1 assembly; re-identifying the tracks; installing bigger bolts and washers to improve the strength of the connection at the down drive brackets; and testing the torque value of the nuts.

Accomplishment of the actions specified in the service bulletins is intended to adequately address the identified unsafe condition. The DGAC classified these service bulletins as mandatory in order to assure the continued airworthiness of these airplanes in France.

Therefore, we have revised this supplemental NPRM to reference these service bulletins as the appropriate sources of service information for accomplishing the proposed actions. We have also revised the applicability of the supplemental NPRM to include the additional airplanes listed in the French airworthiness directives.

Conclusion

Since these changes expands the scope of the originally proposed rule, we have determined that it is necessary to reopen the comment period to provide additional opportunity for public comment.

Cost Impact

The FAA estimates that 9 airplanes of U.S. registry would be affected by this proposed AD, that it would take approximately 13 work hours per airplane to accomplish the proposed modifications and installations, and that the average labor rate is $60 per work hour. Based on these figures, the cost impact of the proposed AD on U.S. operators is estimated to be $7,020, or $780 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation: (1) Is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2001-NM-142-AD.

Applicability: The airplanes specified in Table 1 of this AD, certificated in any category. Table 1 is as follows:

Table 1.—Applicability
Model | Which have received— | Excluding airplanes—
A330 series airplanes | Airbus Modification 45326 in production | Modified in production per Airbus Modification 47619, or modified in service per Airbus Service Bulletin A330-57-3067, Revision 03, dated August 7, 2002.
A340 series airplanes | Airbus Modification 45326 in production | Modified in production per Airbus Modification 47619, or modified in service per Airbus Service Bulletin A340-57-4075, Revision 02, dated August 7, 2002.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the bolts due to flexural loads caused by transmission jam loading, which could lead to a “flap-locked” condition, causing reduced controllability of the airplane, accomplish the following:

Modification and Testing

(a) At the times specified in Table 2 of this AD, modify the down drive brackets of the left- and right-hand inboard flap track 1 assembly and test the torque value of the nuts by accomplishing all actions specified in the Accomplishment Instructions of Airbus Service Bulletin A330-57-3067, Revision 03, dated August 7, 2002 (for Model A330 series airplanes); or Airbus Service Bulletin A340-57-4075, Revision 02, dated August 7, 2002 (for Model A340 series airplanes); as applicable. Table 2 is as follows:

Table 2.—Compliance Time
Compliance time | Action | For model | On which—
(1) Within 36 months since date of manufacture of the airplane, or within 6 months from the effective date of this AD, whichever occurs Later | (i) Modify | A330 series airplanes | Airbus Service Bulletin A330-57-3067, dated October 12, 2000; Revision 01, dated April 10, 2001; or Revision 02, dated February 2, 2002; has not been done.
| (ii) Modify | A340 series airplanes | Airbus Service Bulletin A340-57-4075, dated October 12, 2000; or Revision 01, dated April 10, 2001; has not been done.
(2) Within 700 flight hours from the effective date of this AD | (i) Modify | A330 series airplanes | Airbus Service Bulletin A330-57-3067, dated October 12, 2000; Revision 01, dated April 10, 2001; has been done using U.S. Customary Units.
| (ii) Test | 4A330 series airplanes | Airbus Service Bulletin A340-57-4075, dated October 12, 2000; or Revision 01, dated April 10, 2001; has been done using U.S. Customary Unit.

Parts Installation

(b) As of the effective date of this AD, no person shall install, on any airplane inboard flap track I assembly unless it has been modified and its associated nuts have been torqued in accordance with this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with § 21.197 and 21.199 of the Federal Aviation Regulations (14 CFR 21.197 and 21.199) to operate the airplane to a location where the requirements of this AD can be accomplished.

Note 3: The subject of this AD is addressed in French airworthiness directives 2002-368(B) (for Model A330 series airplanes), and 2002-369(B) (for Model A340 series airplanes); both dated August 7, 2002.

Issued in Renton, Washington, on December 24, 2002.
Charles D. Huber,
Acting Manager, Transport Airplane Directorate, Aircraft Certification Service.

[FR Doc. 03-28 Filed 1-2-03; 8:45 am]

BILLING CODE 4910-13-P